DEPARTMENT OF VETERANS AFFAIRS

38 CFR Part 3

RIN 2900-AJ55

Certification of Evidence for Proof of Service

AGENCY: Department of Veterans Affairs.

ACTION: Final rule.

SUMMARY: This document amends the Department of Veterans Affairs (VA) adjudication regulations concerning the nature of evidence that VA will accept as proof of military service. In the past, VA only accepted original service documents or copies of service documents issued by the service department or by a public custodian of records. This change authorizes VA to accept photocopies of service documents as evidence of military service if they are certified to be true copies of documents acceptable to VA by an accredited agent, attorney or service organization representative who has successfully completed VA-prescribed training on military records. The intended effect of this amendment is to streamline the processing of claims for benefits.

DATES: April 18, 2001.

FOR FURTHER INFORMATION CONTACT: Bill Russo, Attorney-Advisor, Compensation and Pension Service, Veterans Benefits Administration, 810 Vermont Avenue, NW., Washington, DC 20420; telephone (202) 273-7210; e-mail capbruss@vba.va.gov.

SUPPLEMENTARY INFORMATION: On June 27, 2000, VA published in the Federal Register (65 FR 39580-39581), a proposed regulation to amend VA adjudication regulations to allow VA to accept photocopies of service documents as proof of service if they are certified by a claimant's representative who has successfully completed VA-prescribed training on military records, to be true copies of the original documents acceptable to VA. We asked for comments by August 28, 2000 and we received written comments from the American Legion and the Veterans of Foreign Wars. The two commentors did not suggest any changes.

The American Legion stated that the proposed regulation would be helpful to veterans and their representatives in submitting more completely developed claims. They also stated that it will help streamline VA claims procedures and help speed up the overall adjudication process. The Veterans of Foreign Wars stated that they concur with the proposed regulation.

Based on the rationale set forth in the proposed rule and this document, we are adopting the provisions of the proposed rule as a final rule without any changes.

Paperwork Reduction Act

The certification referenced in this final rule is not “information” in a collection of information as defined under 5 CFR 1320.3(h)(1). Therefore, this final rule contains no provisions constituting a collection of information under the Paperwork Reduction Act (44 U.S.C. 3501-3520).

Executive Order 12866

This final rule has been reviewed by the Office of Management and Budget under Executive Order 12866.

Regulatory Flexibility Act

The Secretary hereby certifies that this regulatory amendment will not have a significant economic impact on a substantial number of small entities as they are defined in the Regulatory Flexibility Act (RFA), 5 U.S.C. 601-612. The reason for this certification is that these amendments would not directly affect any small entities. Only VA beneficiaries could be directly affected. Therefore, pursuant to 5 U.S.C. 605(b), these amendments are exempt from the initial and final regulatory flexibility analysis requirements of sections 603 and 604.

The Catalog of Federal Domestic Assistance program numbers are 64.100, 64.101, 64.104, 64.105, 64.106, 64.109, 64.110, and 64.127.

List of Subjects in 38 CFR Part 3

Administrative practice and procedure, Claims, Disability benefits, Health care, Pensions, Veterans, Vietnam.

Approved: February 15, 2001.
Anthony J. Principi,
Secretary of Veterans Affairs.

For the reasons set forth in the preamble, 38 CFR part 3 is amended as follows:

PART 3—ADJUDICATION

Subpart A—Pension, Compensation, and Dependency and Indemnity Compensation

1. The authority citation for Part 3, subpart A continues to read as follows:

Authority: 38 U.S.C. 501(a), unless otherwise noted.

2. In § 3.203, at the end of paragraph (a)(1) remove “custody; and” and add the following:

§ 3.203 Service records as evidence of service and character of discharge.

(a) * * *

(1) * * * custody or, if the copy was submitted by an accredited agent, attorney or service organization representative who has successfully completed VA-prescribed training on military records, and who certifies that it is a true and exact copy of either an original document or of a copy issued by the service department or a public custodian of records; and”.

* * * * *

[FR Doc. 01-9642 Filed 4-17-01; 8:45 am]

BILLING CODE 8320-01-P